DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 27, 2016.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on November 2, 2016.
Donald Burger,
Chief, Office of the Special Permits and Approvals.

Application No. | Docket No. | Applicant | Regulation(s) affected | Nature of the special permits thereof
SPECIAL PERMITS DATA
14636-M |  | Department of Defense (Military Surface Deployment & Distribution Command) | 180.209, 172.301(c) | To modify the special permit to remove and add cylinder serial numbers and add cargo vessel as an authorized mode.
20317-N |  | Roylco, Inc | 173.185(f) | To authorize the transportation in commerce of defective lithium batteries.
20325-N |  | Samsung Electronics America, Inc | 172.500, 172.600, 172.700(a), 173.185(f), 172.200, 172.300 | To authorize the manufacture, mark, sale and use of alternative packagings for the transportation of recalled lithium ion batteries contained in equipment.
20334-N |  |  | Reliable Pharmaceutical Returns, LLC | To authorize the manufacture, mark, sale and use of non-DOT specification packaging for the transportation in commerce of certain materials authorized to be disposed of under 21 CFR part 1317, Subpart B.
20341-N |  | Air Products and Chemicals, Inc | 180.209(a), 180.209(b), 180.209(b)(1)(iv) | To authorize the transportation in commerce of certain Division 2.1 and 2.2 materials in DOT Specification 3A, 3AA, 3AX, 3AAX and 3T cylinders (tubes) having a water capacity over 125 lbs that are requalified every ten years rather than every five years. The 3AX, 3AAX, and 3T cylinders (tubes) must be mounted in an ISO frame or on a trailer frame. 3A or 3AA tubes may also be mounted in an ISO frame or tube trailer frame.
20354-N |  | Kalitta Air, L.L.C | 173.27(b)(2), 173.27(b)(3) | To authorize the transportation in commerce of explosives by cargo only aircraft which is forbidden in the regulations.
20358-N |  | Battle LP Gas Co | 173.315(j) | To authorize the transportation of consumer propane tanks in support of post-hurricane clean-up efforts.

[FR Doc. 2016-27726 Filed 11-23-16; 8:45 am]

BILLING CODE 4909-60-M